ENVIRONMENTAL PROTECTION AGENCY

40 CFR Part 52

[EPA-R08-OAR-2018-0735; FRL-9991-83-Region 8]

Approval and Promulgation of Air Quality Implementation Plans; State of Utah; Revisions to the Utah Division of Administrative Rules; R307-101-3

AGENCY: Environmental Protection Agency (EPA).

ACTION: Proposed rule.

SUMMARY: The Environmental Protection Agency (EPA) is proposing to approve revisions to the Utah Division of Administrative Rules (DAR), specifically R307-101-3 submitted by the State of Utah on October 13, 2016. This submittal requests a State Implementation Plan (SIP) revision to change the date of the referenced Code of Federal Register (CFR) from July 1, 2014 to July 1, 2015. This action is being taken under section 110 of the Clean Air Act (CAA or Act).

DATES: Written comments must be received on or before May 9, 2019.

ADDRESSES: Submit your comments, identified by Docket ID No. EPA-R08-OAR-2018-0735, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Program, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Amrita Singh, Air Program, EPA, Region 8, Mailcode 8P-AR, 1595 Wynkoop Street, Denver, Colorado 80202-1129, (303) 312-6103, singh.amrita@epa.gov.

SUPPLEMENTARY INFORMATION: Throughout this document wherever “we,” “us,” or “our” is used, we mean the EPA.

I. Background

On October 13, 2016, the EPA received revisions for R307-101-3, General Requirements; Version of Code of Federal Regulations Incorporated by Reference from the State of Utah. Revisions submitted for R307-101-3 updates the version of the 40 CFR used in a majority of R307 rules adopted by the Utah Air Quality Board. This update allows R307 rules that reference Section R307-101-3 to update the incorporation date with only one rule amendment. States periodically update their SIPs to incorporate by reference the most current 40 CFR to correlate environmental regulations. This rule, as submitted by the State, does not cover specific R307 rules that specify their own date for the version of the CFR that are incorporated by reference. When the State of Utah updates these specific R307 rules, the EPA will act on them individually.

We previously acted on R307-101-3 on January 29, 2016 (81 FR 4957), as a final rule and received no comments. The final rule acted on the State of Utah's August 29, 2014 submittal, which amended R307-101-3 to include four chemical compounds on the list of compounds excluded from the definition of volatile organic compounds (VOC), as found in the EPA rule at 40 CFR 51.100(s), on the basis that each of these compounds make a negligible contribution to tropospheric ozone formation.

Additionally, within the October 13, 2016 submittal, the Utah Division of Air Quality (UDAQ) submitted revisions to R307-210, Stationary Sources, Standards of Performance for New Stationary Sources and R307-214, National Emissions Standards for Hazardous Air Pollutants. These rules have already been automatically delegated to the State of Utah.¹

¹ https://www.epa.gov/region8/delegations-authority-nsps-and-neshap-standards-states-and-tribes-region-8.

II. The EPA's Evaluation

Section 110(k) of the CAA addresses the EPA's rulemaking action on SIP submissions by states. The CAA requires states to observe certain procedural requirements in developing SIP revisions for submittal to the EPA. Section 110(a)(2) of the CAA requires that each SIP revision be adopted after reasonable notice and public hearing. This must occur prior to the revision being submitted by a state to the EPA.

The State of Utah's Department of Environmental Quality, Air Quality Board proposed for public comment on Rule R307-101-3, General Requirements; Version of Code of Federal Regulations Incorporated by Reference on May 4, 2016. The comment period began on June 1, 2016 and ended on July 1, 2016. No public comments were received nor was a public hearing requested. The Utah Air Quality Board finalized R307-101-3 on August 3, 2016, and the rule became effective on August 4, 2016. Subsequently, on October 13, 2016, Utah submitted a SIP revision to R307-101-3, which updates the date of the referenced 40 CFR from July 1, 2014 to July 1, 2015. This update allows R307 rules that reference Section R307-101-3 to update the incorporation date with only one rule amendment.

III. Proposed Action

The EPA is proposing to approve the SIP revision to R307-101-3, General Requirements; Version of Code of Federal Regulations Incorporated by Reference, where the version of the 40 CFR is being changed from July 1, 2014 to July 1, 2015. The submittal was signed by the Governor on August 17, 2016, and officially submitted by the State on October 13, 2016.

IV. Incorporation by Reference

In this document, the EPA is proposing to include regulatory text in an EPA final rule that includes incorporation by reference. In accordance with requirements of 1 CFR 51.5, the EPA is proposing to incorporate by reference the UDAQ rules promulgated in the DAR, R307-101-3 as discussed in section III of the preamble. The EPA has made, and will continue to make, these materials generally available through www.regulations.gov and at the EPA Region 8 Office (please contact the person identified in the For Further Information Contact section of this preamble for more information).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely proposes to approve state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Greenhouse gases, Lead, Nitrogen dioxide, Ozone, Particulate matter, Reporting and recordkeeping requirements, Sulfur oxides, Volatile organic compounds.

Authority: 42 U.S.C. 7401 et seq.

Dated: April 2, 2019.
Debra Thomas,
Acting Regional Administrator, EPA Region 8.

[FR Doc. 2019-06824 Filed 4-8-19; 8:45 am]

BILLING CODE 6560-50-P